DEPARTMENT OF ENERGY

Federal Energy Regulatory Commission

[Docket No. CP01-8-001]

Texas Eastern Transmission, LP; Notice of Amendment

October 29, 2001.

Take notice that on October 19, 2001, Texas Eastern Transmission, LP (Texas Eastern), 5400 Westheimer Court, P.O. Box 1642, Houston, Texas 77251-1642, filed an amendment to its pending application in Docket No. CP01-8-000, requesting authority for a firm hourly swing service (Firm Hourly Service) all as more fully set forth in the application which is on file with the Commission and open to public inspection. This filing may be viewed on the Web at http://www.ferc.fed.us/online/rims.htm (call 202-208-2222 for assistance).

Specifically, Texas Eastern seeks authorization to offer a Firm Hourly Service that will provide hourly flexibility of up to 110 percent of 1/24th of daily scheduled quantities for up to six hours on any day for customers who receive service under Rate Schedules CDS, FT-1, SCT, and SS-1 at primary firm delivery points. The service will be offered on a seasonal basis: November to March (winter service) or April to October (summer service). The rate for Firm Hourly Service will be an incremental rate based on the cost of the lease proposed in Docket No. CP01-8-000 plus the cost of purchasing gas at Beverly, Massachusetts, the primary receipt point under the lease. This incremental rate is in lieu of Texas Eastern's original proposal to rely on a reduction in storage cost credits to cover the lease costs. Texas Eastern has included Pro Forma Tariff Sheet Nos. 651-653. These sheets replace Pro Forma Tariff Sheet No. 685 which was filed in the original application. Texas Eastern states that these tariff sheets set out the proposed incremental rates and the terms and conditions of the Firm Hourly Service. As proposed in the original filing in Docket No. CP01-8-000, Texas Eastern states that its customers will have the right to transport gas on an interruptible basis using the leased capacity to the extent the lease is not being utilized for Firm Hourly Service.

Any questions regarding the application should be directed to Steven E. Tillman, Director of Regulatory Affairs, Texas Eastern Transmission Corporation, P.O. Box 1642, Houston, Texas 77251-1642 at 713-627-5113.

Any person desiring to be heard or to make any protest with reference to said application should on or before November 19, 2001, file with the Federal Energy Regulatory Commission, 888 First Street NE., Washington, DC 20426, a motion to intervene or protest in accordance with the requirements of the Commission's Rules of Practice and Procedure (18 CFR 385.211 and 385.214) and the regulations under the NGA (18 CFR 157.10). All protests filed with the Commission will be considered by it in determining the appropriate action to be taken but will not serve to make the protestants parties to the proceeding. Any person wishing to become a party in any proceeding must file a motion to intervene in accordance with the Commission's rules.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered. A person, instead, may submit two copies of such comments to the Secretary of the Commission. Commenters will be placed on the Commission's environmental mailing list, will receive copies of environmental documents, and will be able to participate in meetings associated with the Commission's environmental review process. Commenters will not be required to serve copies of filed documents on all other parties. However, commenters will not receive copies of all documents filed by other parties or issued by the Commission, and will not have the right to seek rehearing or appeal the Commission's final order to a Federal court.

The Commission will consider all comments and concerns equally, whether filed by commenters or those requesting intervenor status.

Take further notice that, pursuant to the authority contained in and subject to the jurisdiction conferred upon the Commission by sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure provide for, unless otherwise advised, it will be unnecessary for Texas Eastern to appear or to be represented at the hearing.

David P. Boergers,
Secretary.

[FR Doc. 01-27559 Filed 11-1-01; 8:45 am]

BILLING CODE 6717-01-P